DEPARTMENT OF TRANSPORTATION

Federal Aviation Administration

14 CFR Part 39

[Docket No. FAA-2014-0121; Directorate Identifier 2013-NM-151-AD]

RIN 2120-AA64

Airworthiness Directives; Airbus Airplanes

AGENCY: Federal Aviation Administration (FAA), DOT.

ACTION: Notice of proposed rulemaking (NPRM).

SUMMARY: We propose to supersede airworthiness directive (AD) 2008-14-17, for certain Airbus Model A330-200 and A340-300 series airplanes. AD 2008-14-17 currently requires a high frequency eddy current (HFEC) inspection, corrective actions if necessary, and modifications. Since we issued AD 2008-14-17, it has been determined from a fatigue and damage tolerance evaluation that the compliance time needs to be revised. This proposed AD would require the same actions as those required by AD 2008-14-17, but with a reduced compliance time. We are proposing this AD to detect and correct damage of the upper shell structure at the skin and frame interface, which could result in reduced structural integrity of the airframe.

DATES: We must receive comments on this proposed AD by April 17, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0121; or in person at the Docket Management Facility between 9 a.m. and 5 p.m., Monday through Friday, except Federal holidays. The AD docket contains this proposed AD, the MCAI, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone (425) 227-1138; fax (425) 227-1149.

SUPPLEMENTARY INFORMATION:

Comments Invited

We invite you to send any written relevant data, views, or arguments about this proposed AD. Send your comments to an address listed under the ADDRESSES section. Include “Docket No. FAA-2014-0121; Directorate Identifier 2013-NM-151-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On June 27, 2008, we issued AD 2008-14-17, Amendment 39-15612 (73 FR 40958, July 17, 2008). AD 2008-14-17 requires actions intended to address an unsafe condition on certain Airbus Model A330-200 and A340-300 series airplanes.

Since we issued AD 2008-14-17, Amendment 39-15612 (73 FR 40958, July 17, 2008), it has been determined from a fatigue and damage tolerance evaluation that the compliance time of the HFEC inspection for cracking, and modification of the upper shell structure of the fuselage needs to be revised.

The European Aviation Safety Agency (EASA), which is the Technical Agent for the Member States of the European Community, has issued EASA Airworthiness Directive 2013-0158, dated July 22, 2013 (referred to after this as the Mandatory Continuing Airworthiness Information, or “the MCAI”), to correct an unsafe condition for the specified products. The MCAI states:

During fatigue tests (EF3) on an A340-600 aeroplane, multiple damage was found in the upper side shell structure at skin and frame (FR) 84 and 85 interface, from stringer 6 to 15 Left-Hand (LH) and Right Hand (RH). This damage occurred between 58 341 and 72 891 simulated flight cycles (FC).

Due to the higher Design Service Goal and different design (e.g. skin thickness) for A330-200 and A340-300 aeroplanes, the damage assessment concluded that these aeroplanes can potentially be impacted.

This condition, if not detected and corrected, could result in reduced structural integrity of the airframe.

Prompted by these findings, EASA issued [an] AD * * * to require a one-time inspection and a modification to improve the upper shell structure.

EASA AD 2007-0269R1 [(http://ad.easa.europa.eu/blob/easa_ad_2007_0269R1_superseded.pdf/AD_2007-0269R1_2)], which corresponds to FAA AD 2008-14-17, Amendment 39-15612 (73 FR 40958) was issued to clarify the fact that the [EASA] AD was not applicable to A340-300 aeroplanes on which both Airbus Mod 44205 and Mod 45012 have been embodied in production.

Since that [EASA] AD was issued, in the frame of a new fatigue and damage tolerance evaluation, taking into account the aeroplane utilization, the threshold and intervals were reassessed. This reassessment concluded that, in that specific case, the threshold for modifying the aeroplane must be reduced.

For the reasons described above, this [EASA] AD retains the requirements of EASA AD 2007-0269R1, which is superseded, but requires these actions within the new thresholds.

You may examine the MCAI in the AD docket on the Internet at http://www.regulations.gov by searching for and locating it in Docket No. FAA-2014-0121.

Relevant Service Information

Airbus has issued Mandatory Service Bulletin A330-53-3152, Revision 03, dated December 22, 2011. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

We estimate that this proposed AD affects 7 airplanes of U.S. registry.

We estimate the following costs to comply with this proposed AD:

Estimated Costs
Action | Labor cost | Parts cost | Cost per product | Cost on U.S. operators
Inspection and Modification [retained actions from AD 2008-14-17, Amendment 39-15612 (73 FR 40958, July 17, 2008)] | 300 work-hours × $85 per hour = $25,500 | $72,730 | $98,230 | $687,610

This proposed AD adds no additional economic burden.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. Amend § 39.13 by removing Airworthiness Directive (AD) 2008-14-17, Amendment 39-15612 (73 FR 40958, July 17, 2008), and adding the following new AD:

Airbus: Docket No. FAA-2014-0121; Directorate Identifier 2013-NM-151-AD.

(a) Comments Due Date

We must receive comments by April 17, 2014.

(b) Affected ADs

This AD supersedes AD 2008-14-17, Amendment 39-15612 (73 FR 40958, July 17, 2008).

(c) Applicability

This AD applies to the airplanes, certificated in any category, identified in paragraphs (c)(1) and (c)(2) of this AD.

(1) Airbus Model A330-201, -202, -203, -223, and -243 airplanes, all manufacturer serial numbers (MSN), on which Airbus modification 44205 has been embodied in production, except those on which Airbus modification 52974 or modification 53223 has been embodied in production.

(2) Airbus Model A340-311, -312, and -313 airplanes, all MSN on which Airbus modification 44205 has been embodied in production, except those on which Airbus modification 52974 or modification 53223 or modification 45012 has been embodied in production.

(d) Subject

Air Transport Association (ATA) of America Code 53, Fuselage.

(e) Reason

This AD was prompted by a determination from a fatigue and damage tolerance evaluation that the compliance time of the high frequency eddy current (HFEC) inspection for cracking, and modification of the upper shell structure of the fuselage needs to be revised. We are issuing this AD to detect and correct damage of the of the upper shell structure at the skin and frame interface, which could result in reduced structural integrity of the airframe.

(f) Compliance

Comply with this AD within the compliance times specified, unless already done.

(g) Retained Inspection With Reduced Compliance Times and Revised Service Information

This paragraph restates the requirements of paragraph (f)(1) of AD 2008-14-17, Amendment 39-15612 (73 FR 40958, July 17, 2008), with reduced compliance times and revised service information. For Airbus Model A330-200 series airplanes, as identified in paragraph (c) of this AD, on which Modification 45012 has been embodied in production: Within the applicable compliance times specified in paragraphs (g)(1), (g)(2), (g)(3), and (g)(4) of this AD, do the HFEC inspection for cracking, and corrective actions as applicable; and modify the upper shell structure of the fuselage; in accordance with the Accomplishment Instructions of Airbus Mandatory Service Bulletin A330-53-3152, Revision 3, dated December 22, 2011. Do all applicable corrective actions before further flight.

(1) For airplanes pre-modification 48827 with short range utilization: At the later of the times specified in paragraph (g)(1)(i) or (g)(1)(ii) of this AD.

(i) Prior to 24,400 total flight cycles or 85,400 total flight hours, whichever occurs first.

(ii) Within 12 months after the effective date of this AD without exceeding 25,400 total flight cycles.

(2) For airplanes pre-modification 48827 with long range utilization: At the later of the times specified in paragraph (g)(2)(i) or (g)(2)(ii) of this AD.

(i) Prior to 18,900 total flight cycles or 122,900 total flight hours, whichever occurs first.

(ii) Within 12 months after the effective date of this AD without exceeding 25,400 total flight cycles.

(3) For airplanes post-modification 48827 with short range utilization: At the later of the times specified in paragraph (g)(3)(i) or (g)(3)(ii) of this AD.

(i) Prior to 16,400 total flight cycles or 57,400 total flight hours, whichever occurs first.

(ii) Within 12 months after the effective date of this AD without exceeding 17,100 total flight cycles or 94,700 total flight hours, whichever occurs first.

(4) For airplanes post-modification 48827 with long range utilization: At the later of the times specified in paragraph (g)(4)(i) or (g)(4)(ii) of this AD.

(i) Prior to 12,700 total flight cycles or 82,700 total flight hours, whichever occurs first.

(ii) Within 12 months after the effective date of this AD without exceeding 17,100 total flight cycles or 94,700 total flight hours, whichever occurs first.

(h) Retained Modification With Revised Formatting

This paragraph restates the requirements of paragraph (f)(2) of AD 2008-14-17, Amendment 39-15612 (73 FR 40958, July 17, 2008). For Airbus Model A330-200 and A340-300 series airplanes as identified in paragraph (c) of this AD, on which Modification 45012 has not been embodied in production: At the later of the compliance times specified in paragraphs (h)(1) and (h)(2) of this AD, modify the upper shell structure of the fuselage, in accordance with the Accomplishment Instructions of Airbus Service Bulletin A330-53-3157 or Airbus Service Bulletin A340-53-4163, both dated July 5, 2006, as applicable.

(1) For the airplanes identified in paragraphs (h)(1)(i) and (h)(1)(ii) of this AD.

(i) For Model A330-200 series airplanes, prior to 6,600 total flight cycles.

(ii) For Model A340-300 series airplanes, prior to 14,000 total flight cycles.

(2) Within 90 days after August 21, 2008 (the effective date of AD 2008-14-17, Amendment 39-15612 (73 FR 40958, July 17, 2008)).

(i) Credit for Previous Actions

This paragraph provides credit for actions required by paragraph (g) of this AD, if those actions were performed before the effective date of this AD using the service information specified in paragraph (i)(1), (i)(2), or (i)(3) of this AD.

(1) Airbus Mandatory Service Bulletin A330-53-3152, dated April 10, 2007.

(2) Airbus Mandatory Service Bulletin A330-53-3152, Revision 1, dated May 5, 2009.

(3) Airbus Mandatory Service Bulletin A330-53-3152, Revision 2, dated July 27, 2011.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer, use these actions if they are FAA-approved. Corrective actions are considered FAA-approved if they were approved by the State of Design Authority (or its delegated agent, or by the DAH with a State of Design Authority's design organization approval, as applicable). You are required to ensure the product is airworthy before it is returned to service.

(k) Related Information

(1) Refer to Mandatory Continuing Airworthiness Information (MCAI) European Aviation Safety Agency Airworthiness Directive 2013-0158, dated July 22, 2013, for related information. This MCAI may be found in the AD docket on the Internet at http://www.regulations.gov by searching for and locating Docket No. FAA-2014-0121.

(2) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this service information at the FAA, Transport Airplane Directorate, 1601 Lind Avenue SW., Renton, WA. For information on the availability of this material at the FAA, call 425-227-1221.

Issued in Renton, Washington, on February 14, 2014.
Jeffrey E. Duven,
Manager, Transport Airplane Directorate, Aircraft Certification Service.

[FR Doc. 2014-04501 Filed 2-28-14; 8:45 am]

BILLING CODE 4910-13-P